GENERAL SERVICES ADMINISTRATION

[OMB Control No. 3090-0317; Docket No. 2024-0001; Sequence No. 12]

Submission for OMB Review; Notarized Document Submittal for System for Award Management—New Entity Administrator Appointments

AGENCY: Office of Acquisition Policy, General Services Administration (GSA).

ACTION: Notice; request for comments.

SUMMARY: Under the provisions of the Paperwork Reduction Act, the Regulatory Secretariat Division will be submitting to the Office of Management and Budget (OMB) a request to review and approve a revision to an existing OMB clearance regarding a notarized document submittal for System for Award Management (SAM) Registration.

DATES: Submit comments on or before February 26, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Salomeh Ghorbani, Director, IAE Outreach and Stakeholder Engagement Division, at 202-430-0206 or IAE_Admin@gsa.gov.

SUPPLEMENTARY INFORMATION:

A. Purpose

Federal Acquisition Regulation (FAR) Subpart 4.11 prescribes policies and procedures for requiring contractor registration in the System for Award Management (SAM) database to increase visibility of vendor sources (including their geographical locations) for specific supplies and services; and establish a common source of vendor data for the Government.

In the past, the GSA Office of Inspector General (OIG) conducted an investigation into fraudulent activities discovered within SAM. As a result, SAM.gov workflows and data analysis have been revised over the last several years to improve our ability to identify bad actors earlier than before.

As a result of GSA actively pursuing technical alternatives to the collection of this information for all non-federal entities, GSA seeks to refine the requirement previously adopted, where a risk-based approach was used to justify the collection of the entity administrator appointment letter (EAAL) for all new entities, and only employ this method to establish an Entity Administrator to an existing entity where the previous administrator is no longer on staff.

This information is essential to GSA's acquisition mission to meet the needs of all federal agencies, as well as the needs of the grant community. A key element of GSA's mission is to provide efficient and effective acquisition solutions across the Federal Government. SAM is essential to the accomplishment of that mission. In addition to federal contracts, federal assistance programs also rely upon the integrity and security of the information in SAM. Without assurances that the information in SAM is protected and is at minimal risk of compromise, GSA would risk losing the confidence of the federal acquisition and assistance communities that it serves. As a result, some entities may prefer not to do business with the federal government.

B. Annual Reporting Burden

Respondents: 139,027.

Responses per Respondent: 1.

Total Annual Responses: 139,027.

Hours per Response: .5.

Total Burden Hours: 69,513.

The information collection allows GSA to request the notarized letter and apply this approach to individuals who seek to become the Entity Administrator for an entity record in SAM.gov when there is no Entity Administrator appointed for that entity in the system.

Individuals seeking administrator access to entity records in SAM are provided the template for the requirements of the notarized letter. It is estimated that the individual will take an average 0.5 hours to create the letter and 0.25 hours to upload the letter to the Federal Service Desk. GSA proposes that an individual equivalent to a GS-5, Step 5 Administrative Support person within the government would perform these tasks. The estimated hourly rate of $25.06 (Base + Locality + Fringe) was used for the calculation.

Based on historical data of the ratio of small entities to other than small entities that exist in SAM, GSA approximates 58,500 of the 90,000 annual entities who do not have an individual with the Entity Administrator role will have in-house resources to notarize documents. GSA proposes that the entities with in-house notaries will typically be large businesses where the projected salary of the executive or officer responsible for signing the notarized letter is, on average, approximately $150 per hour. The projected time for signature and notarizing the letter internally is 0.5 hours.

The other remaining 31,500 entities per year are estimated to be small entities where the projected salary of the executive or officer responsible for signing the notarized letter is, on average, approximately $100 per hour. These entities will likely have to obtain notary services from an outside source. The projected time for signature and notarizing the letter externally is 1 hour. The estimate includes a nominal fee ($5.00) usually charged by third-party notaries.

C. Public Comments

A 60-day notice published in the Federal Register at 89 FR 92688 on November 22, 2024. No public comments were received.

Obtaining Copies of Proposals: Requesters may obtain a copy of the information collection documents from the Regulatory Secretariat Division by calling 202-501-4755 or emailing GSARegSec@gsa.gov. Please cite OMB Control No. 3090-0317, Notarized Document Submittal for System for Award Management Registration, in all correspondence.

Lois Mandell,
Director, Regulatory Secretariat Division.

[FR Doc. 2025-01755 Filed 1-24-25; 8:45 am]

BILLING CODE 6820-WY-P